DEPARTMENT OF AGRICULTURE

Submission for OMB Review; Comment Request

May 15, 2009.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Requirements for Request To Amend 7 CFR Part 319 Import Regulations.

OMB Control Number: 0579-0261.

Summary of Collection: As authorized by the Plant Protection Act (PPA) (7 U.S.C. 7701—et seq.), the Secretary of Agriculture may prohibit or restrict the importation, entry, exportation, or movement in interstate commerce of any plant, plant product, biological control organism, noxious weed, means of conveyance, or other article if the Secretary determines that the prohibition or restriction is necessary to prevent a plant pest or noxious weed from being introduced into and disseminated within the United States. The Animal and Plant Health Inspection Service (APHIS) has established regulations governing the submission of requests for changes in its regulations that restrict the importation of plants, plant parts, and products.

Need and Use of the Information: APHIS will collect required information to properly consider requests and helps to ensure that the information required to prepare a risk analysis and/or other analyses that evaluate the risks and other effects associated with a final ruling to change a regulation. This process requires the use of collecting information about the requestor, information about the commodity to be imported, shipping information, a description of pests and diseases associated with the commodity, risk mitigation or management strategies, and additional information as determined by APHIS to complete a pest risk analysis in accordance with international standards.

Description of Respondents: Business or other for-profit.

Number of Respondents: 36.

Frequency of Responses: Reporting: On occasion.

Total Burden Hours: 4,200.

Animal and Plant Health Inspection Service

Title: Importation of Baby Corn and Baby Carrots from Zambia.

OMB Control Number: 0579-0284.

Summary of Collection: Under the Plant Protection Act (PPA) (7 U.S.C. 7701—et seq.) the Secretary of Agriculture is authorized to carry out operations or measures to detect, eradicate, suppress, control, prevent, or retard the spread of plant pests new to the United States or not known to be widely distributed throughout the United States. Regulations authorized by the PPA concerning the importation of fruits and vegetables into the United States from certain parts of the world are contained in “Subpart Fruits and Vegetables” (7 CFR 319.56-1 through 319.56-47). Under these regulations, baby corn and baby carrots from Zambia are subject to certain conditions before entering the United States to prevent the introduction of plant pests into the United States.

Need and Use of the Information: The Animal and Plant Health Inspection Service (APHIS) requires that some plants or plant products are accompanied by a phytosanitary inspection certificate that is completed by plant health officials in the originating or transiting country. APHIS uses the information on the certificate to determine the pest condition of the shipment at the time of inspection in the foreign country. This information is used as a guide to the intensity of the inspection APHIS conducts when the shipment arrives.

Without this information, all shipments would need to be inspected very thoroughly, thereby requiring considerably more time.

Description of Respondents: Business or other for-profit; Federal Government.

Number of Respondents: 7.

Frequency of Responses: Reporting: On occasion.

Total Burden Hours: 64.

Ruth Brown,
Departmental Information Collection Clearance Officer.

[FR Doc. E9-11838 Filed 5-20-09; 8:45 am]

BILLING CODE 3410-34-P